NUCLEAR REGULATORY COMMISSION

Proposed New Appendix to Standard Review Plan (NUREG-0800), Chapter 19, “Use of Probablistic Risk Assessment in Plant-Specific, Risk-Informed Decisionmaking: General Guidance”

AGENCY: Nuclear Regulatory Commission.

ACTION: Notice of Workshop.

SUMMARY: The Nuclear Regulatory Commission (NRC) will host a public workshop to discuss the proposed new appendix to Chapter 19 of the Standard Review Plan (NUREG-0800), entitled “Appendix D—Use of Risk Information in Review of Non-Risk Informed License Amendment Requests.” The appendix is being developed to provide guidance to the NRC staff on the use of risk information in those rare instances where license amendment requests appear to meet regulatory requirements but raise significant risk concerns due to some special circumstances associated with the request. The workshop is open to the public.

DATES: The workshop will be held on May 16, 2000, from 9 am to 12 noon.

ADDRESSES: U.S. Nuclear Regulatory Commission, Room T-8A1, Two White Flint North, 11545 Rockville Pike, Rockville, Maryland.

FOR FURTHER INFORMATION CONTACT: Egan Y. Wang, Office of Nuclear Reactor Regulation, U.S. Nuclear Regulatory Commission, Washington, DC 20555, telephone (301) 415-1076, e-mail eyw@nrc.gov.

SUPPLEMENTARY INFORMATION: The proposed new appendix and a Notice of Opportunity for Public Comment on the appendix was issued in the Federal Register on April 10, 2000 (FR, Vol. 65, No. 69, 19030-19034). This workshop will provide an opportunity to discuss topics related to the appendix. Anyone interested in providing a presentation on this topic should contact Egan Wang at (301) 415-1076.

Dated at Rockville, Maryland this 20th day of April 2000.
For the Nuclear Regulatory Commission.
Steven K. West,
Acting Chief, Generic Issues, Environmental, Financial and Rulemaking Branch, Division of Regulatory Improvement Programs, Office of Nuclear Reactor Regulation.

[FR Doc. 00-10739 Filed 4-28-00; 8:45 am]

BILLING CODE 7590-01-M